DEPARTMENT OF ENERGY

Federal Energy Regulatory Commission

Combined Notice of Filings

Take notice that the Commission has received the following Natural Gas Pipeline Rate and Refund Report filings:

Filings Instituting Proceedings

Docket Numbers: RP16-1244-000.

Applicants: Enable Mississippi River Transmission, L.

Description: § 4(d) Rate Filing: 2016 Fuel Adjustment Filing to be effective 11/1/2016.

Filed Date: 9/23/16.

Accession Number: 20160923-5124.

Comments Due: 5 p.m. ET 10/5/16.

Docket Numbers: RP16-1245-000.

Applicants: Enable Gas Transmission, LLC.

Description: § 4(d) Rate Filing: Fuel Tracker Filing Effective November 1 2016 to be effective 11/1/2016.

Filed Date: 9/23/16.

Accession Number: 20160923-5138.

Comments Due: 5 p.m. ET 10/5/16.

Docket Numbers: RP16-1246-000.

Applicants: Kern River Gas Transmission Company.

Description: § 4(d) Rate Filing: 2016 Misc Updates Orig Vol 1A to be effective 10/24/2016.

Filed Date: 9/23/16.

Accession Number: 20160923-5159.

Comments Due: 5 p.m. ET 10/5/16.

Docket Numbers: RP16-1247-000.

Applicants: Trunkline Gas Company, LLC.

Description: Compliance filing Annual Report of Flow Through filed 9-23-16.

Filed Date: 9/23/16.

Accession Number: 20160923-5171.

Comments Due: 5 p.m. ET 10/5/16.

Docket Numbers: RP16-1248-000.

Applicants: Alliance Pipeline L.P.

Description: § 4(d) Rate Filing: Fuel Requirement Nov 2016 to be effective 11/1/2016.

Filed Date: 9/23/16.

Accession Number: 20160923-5172.

Comments Due: 5 p.m. ET 10/5/16.

Docket Numbers: RP16-1249-000.

Applicants: Transcontinental Gas Pipe Line Company.

Description: § 4(d) Rate Filing: Imbalance Calculations to be effective 11/1/2016.

Filed Date: 9/23/16.

Accession Number: 20160923-5198.

Comments Due: 5 p.m. ET 10/5/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP16-618-001.

Applicants: Algonquin Gas Transmission, LLC.

Description: Compliance filing Capacity Release Bidding Exemption—Compliance Filing to be effective 9/1/2016.

Filed Date: 9/23/16.

Accession Number: 20160923-5153.

Comments Due: 5 p.m. ET 10/5/16.

Docket Numbers: RP16-1178-001.

Applicants: Equitrans, L.P.

Description: Compliance filing Ohio Valley Connector Errata Filing to be effective 12/31/9998.

Filed Date: 9/26/16.

Accession Number: 20160926-5085.

Comments Due: 5 p.m. ET 10/11/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 26, 2016.
Nathaniel J. Davis, Sr.,
Deputy Secretary.

[FR Doc. 2016-23922 Filed 10-3-16; 8:45 am]

BILLING CODE 6717-01-P